ENVIRONMENTAL PROTECTION AGENCY

40 CFR Part 52

[R04-OAR-2003-KY-0001-200410(w); FRL-7983-3]

Approval and Promulgation of Implementation Plans for Kentucky: Regulatory Limit on Potential To Emit; Withdrawal of Direct Final Rule

AGENCY: Environmental Protection Agency (EPA).

ACTION: Withdrawal of direct final rule.

SUMMARY: Due to adverse comment, EPA is withdrawing the direct final rule published August 24, 2005, (70 FR 49493) approving a revision to the State Implementation Plan (SIP) of the Commonwealth of Kentucky. This revision incorporates Kentucky rule 401 KAR 52:080 into the Kentucky SIP. This rule allows sources with a potential to emit (PTE) that equals or exceeds a title V major source threshold to be classified as minor sources if they restrict their actual emissions to less than 50 percent of the title V major source thresholds and meet other conditions specified in the rule. EPA stated in the direct final rule that if EPA received adverse comment by September 23, 2005, the rule would be withdrawn and not take effect. EPA subsequently received adverse comment. EPA will address the comment in a subsequent final action based upon the proposed action also published on August 24, 2005 (70 FR 49525). EPA will not institute a second comment period on this action.

DATES: The direct final rule is withdrawn as of October 19, 2005.

FOR FURTHER INFORMATION CONTACT: Michele Notarianni, Air Planning Branch, U.S. Environmental Protection Agency Region 4, 61 Forsyth Street, SW., Atlanta, Georgia 30303-8960. (404/562-9031 (phone) or notarianni.michele@epa.gov (e-mail).)

List of Subjects in 40 CFR Part 52

Environmental protection, Air pollution control, Carbon monoxide, Intergovernmental relations, Lead, Nitrogen dioxide, Ozone, Particulate matter, Reporting and recordkeeping requirements, Sulfur oxides, Volatile organic compounds.

Dated: September 30, 2005.
A. Stanley Meiburg,
Acting Regional Administrator, Region 4.

Accordingly, the amendments to 40 CFR 52.919 and 52.920 (which published in the Federal Register on August 24, 2005, at 70 FR 49493) is withdrawn as of October 19, 2005.

[FR Doc. 05-20816 Filed 10-18-05; 8:45 am]

BILLING CODE 6560-50-P